DEPARTMENT OF AGRICULTURE

Animal and Plant Health Inspection Service

7 CFR Part 319

[Docket No. 00-003-3]

Mexican Hass Avocado Import Program; Public Hearings

AGENCY: Animal and Plant Health Inspection Service, USDA.

ACTION: Proposed rule; notice of public hearings.

SUMMARY: We are advising the public that the Animal and Plant Health Inspection Service is hosting four public hearings on the proposed rule on the Mexican hass avocado import program that we published in the Federal Register on July 13, 2001 (66 FR 36892).

DATES: The public hearings will be held in Denver, CO, on Tuesday, August 14, 2001; in Escondido, CA, on Thursday, August 16, 2001; in Homestead, FL, on Tuesday, August 21, 2001; and in Austin, TX, on Thursday, August 23, 2001. Advance registration for any hearing by fax or e-mail must be received by the Animal and Plant Health Inspection Service no later than 3 p.m. e.d.t. on Friday, August 10, 2001.

ADDRESSES: The public hearings will be held at the following locations:

1. Denver, CO: Renaissance Denver Hotel, 3801 Quebec Street, Denver, CO.

2. Escondido, CA: California Center for the Arts, 340 North Escondido Boulevard, Escondido, CA.

3. Homestead, FL: Redland Country Club, 24451 SW. 177th (Krome) Avenue, Homestead, FL.

4. Austin, TX: Stephen F. Austin Building, 1700 N. Congress Avenue, Austin, TX.

FOR FURTHER INFORMATION CONTACT: Mr. Michael A. Lidsky, Assistant Director, Regulatory Coordination, PPQ, APHIS, 4700 River Road Unit 141, Riverdale, MD 20737-1236; (301) 734-8790.

SUPPLEMENTARY INFORMATION: Four public hearings will be held on the notice of proposed rulemaking on the Mexican hass avocado import program, published by the Animal and Plant Health Inspection Service (APHIS), U.S. Department of Agriculture, in the Federal Register on July 13, 2001 (66 FR 36891-36905, Docket No. 00-003-2).

The first public hearing will be held in Denver, CO, on Tuesday, August 14, 2001. The second public hearing will be held in Escondido, CA, on Thursday, August 16, 2001. The Center Theater at the California Center for the Arts can accommodate a maximum of 400 persons. The third public hearing will be held in Homestead, FL, on Tuesday, August 21, 2001. The fourth public hearing will be held in Austin, TX, on Thursday, August 23, 2001.

A representative of APHIS will preside at the public hearings. Any interested person may appear and be heard in person, by attorney, or by other representative. Written statements may be submitted and will be made part of the hearing record.

The purpose of the hearings is to give interested persons an opportunity for oral presentation of data, views, and arguments. Questions about the content of the proposed rule may be part of the commenters' oral presentations. However, neither the presiding officer nor any other representative of APHIS will respond to comments at the hearing, except to clarify or explain provisions of the proposed rule and the documents on which the proposed rule is based.

As stated in our July 13, 2001, proposed rule, all of the supporting documentation for the proposed rule is available by contacting the person listed under FOR FURTHER INFORMATION CONTACT, or via the Internet at http://www.aphis.usda.gov/ppq/avocados/. Copies of these documents will not be available at the hearings.

The hearings will begin at 9 a.m. and are scheduled to end at 5 p.m. each day. However, each hearing may be terminated at any time if all persons desiring to speak have been heard.

The presiding officer may limit the time for each presentation so that everyone is accommodated and all interested persons appearing on the scheduled dates have an opportunity to participate.

Registration for each hearing may be accomplished by registering with the presiding officer between 8:30 a.m. and 9 a.m. on any hearing day. Persons who wish to speak at any of the public hearings will be asked to sign in with their name and organization to establish a record for the hearing. We ask that anyone who reads a statement provide two copies to the presiding officer at the hearing. Those who wish to form a panel to present their views will be asked to provide the name of each member of the panel and the organizations the panel members represent.

Persons or panels wishing to speak at any of the public hearings may register in advance by fax or e-mail. Faxes and e-mails must clearly state the registrant's name, telephone number, organization, and location of the hearing at which they wish to speak. Persons wishing to register by fax must send a fax with the information described above to APHIS' Plant Protection and Quarantine Regulatory Coordination Staff at (301) 734-8693. Persons wishing to register by e-mail must send an e-mail with the information described above to peggy.a.torney@aphis.usda.gov. If registering for a panel, the registrant must also provide the name of each member of the panel and the organization each panel member represents. Advance registration for any hearing by fax or e-mail must be received by APHIS no later than 3 p.m. e.d.t. on Friday, August 10, 2001.

A transcript will be made of each public hearing, and the transcript will be placed in the rulemaking record and will be available for public inspection.

Done in Washington, DC, this 25th day of July 2001.
Bobby R. Acord,
Acting Administrator, Animal and Plant Health Inspection Service.

[FR Doc. 01-18859 Filed 7-26-01; 8:45 am]

BILLING CODE 3410-34-U